FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 28, 2011.

A. Federal Reserve Bank of Chicago (Colette A. Fried, Assistant Vice President) 230 South LaSalle Street, Chicago, Illinois 60690-1414:

1. Charles M. Shea, Wilmette, Illinois; as an individual, and by the control group including the Betty J. Bradshaw 2000 Irrevocable Trust dated 10/30/00, Chicago, Illinois, Charles M. Shea, Wilmette, Illinois, as Trustee, and Molly Boed, Wassenaar, Netherlands, as committee member of the Betty Bradshaw 2000 Irrevocable Trust dated 10/30/00; to acquire control of First Community Bancshares Corp., Anamosa, Iowa, and thereby indirectly acquire control of Citizens Savings Bank, Anamosa, Iowa, and First Community Bank, Milton, Wisconsin.

Board of Governors of the Federal Reserve System on February 8, 2011.
Margaret McCloskey Shanks,
Associate Secretary of the Board.

[FR Doc. 2011-3077 Filed 2-10-11; 8:45 am]

BILLING CODE 6210-01-P